DEPARTMENT OF HEALTH AND HUMAN SERVICES

Centers for Medicare & Medicaid Services

[Document Identifier: CMS-P-0015A and CMS-10204]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Medicare Current Beneficiary Survey (MCBS): Rounds 48-56. Use: The Medicare Current Beneficiary Survey (MCBS) is a continuous, multipurpose survey of a nationally representative sample of aged, disabled, and institutionalized Medicare beneficiaries. MCBS, which is sponsored by the Centers for Medicare & Medicaid Services, is the only comprehensive source of information on the health status, health care use and expenditures, health insurance coverage, and socioeconomic and demographic characteristics of the entire spectrum of Medicare beneficiaries. MCBS data users can assess the impact of major policy innovations and health care reform on Medicare beneficiaries. They can monitor delivery of services, sources of payment for Medicare covered and non-covered services, beneficiary cost sharing and financial protection, and satisfaction with and the access to health care services. Form Number: CMS-P-0015A (OMB#: 0938-0568); Frequency: Third Party Disclosure, Recordkeeping, and Reporting—Yearly; Affected Public: Individuals or households, Business or other for-profit and not-for-profit institutions; Number of Respondents: 16,500; Total Annual Responses: 49,500; Total Annual Hours: 50,325.

2. Type of Information Collection Request: New collection; Title of Information Collection: Evaluation of the Medical Adult Day-Care Services Demonstration, Phase I; Use: This request seeks Office of Management and Budget's (OMB) approval of (1) collection of enrollment data by demonstration sites and (2) face-to-face interviews with Medicare beneficiaries (not to exceed 45 minutes in length). These data collection and interviews are to be completed during Phase I of the Evaluation of the Medical Adult Day-Care Services Demonstration (Contract Number 500-00-0038/5).

Section 703 of the Medicare Prescription Drug, Improvement and Modernization Act of 2003 (MMA) (Pub. L. 108-173) authorizes a three-year demonstration to assess the clinical and cost-effectiveness of providing medical adult day-care services as a substitute for a portion of home health services that would otherwise be provided in the beneficiary's home. Under this authority, the Centers for Medicare & Medicaid Services (CMS), through its Office of Research, Development and Information (ORDI), is conducting the Medical Adult Day-Care Services Demonstration. Five Medicare certified home health agencies were selected by CMS through a competitive process to participate in the demonstration. These five demonstration sites are Aurora Visiting Nurse Association (Milwaukee, Wisconsin), Doctor's Care Home Health (McAllen, Texas), Landmark Home Health Care Services (Allison Park, Pennsylvania), Metropolitan Jewish Health System (Brooklyn, New York) and Neighborly Care Network (St. Petersburg, Florida). Form Number: CMS-10204 (OMB#: 0938-NEW); Frequency: Reporting—One-time; Affected Public: Individuals and Households, Business or other for-profit and Not-for-profit institutions; Number of Respondents: 55; Total Annual Responses: 110; Total Annual Hours: 297.5.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: January 26, 2007.
Michelle Shortt,
Director, Regulations Development Group, Office of Strategic Operations and Regulatory Affairs.

[FR Doc. E7-1685 Filed 2-1-07; 8:45 am]

BILLING CODE 4120-01-P